DEPARTMENT OF TRANSPORTATION

Federal Highway Administration

Environmental Impact Statement: Suffolk County, New York

AGENCY: Federal Highway Administration (FHWA), DOT.

ACTION: Notice of Intent.

SUMMARY: The FHWA is issuing this notice to advise the public that an environmental impact statement will be prepared for the proposed highway project, the Long Island Travel and Information Center between Exits 51 and 52 adjacent to the eastbound roadway of the Long Island Expressway (I-495) in Suffolk County, New York.

FOR FURTHER INFORMATION CONTACT: Craig Siracusa, Regional Director, New York State Department of Transportation, Region 10, State Office Building, 250 Veterans Memorial Highway, Hauppauge, NY 11788, Telephone: 631-952-6632

or

Robert Arnold, Division Administrator, Federal Highway Administration, New York Division, Leo W. O'Brien Federal Building, 9th Floor, Clinton Avenue and North Pearl Street, Albany, New York 12207, Telephone: 518-431-4127.

SUPPLEMENTARY INFORMATION: The FHWA, in cooperation with the New York State Department of Transportation (NYSDOT) will prepare an Environmental Impact Statement (EIS) on a proposal to develop the Long Island Travel and Information Center (LITIC) in Suffolk County, New York. The LITIC is proposed for development between Exits 51 and 52 of the eastbound Long Island Expressway (LIE-I-495). The proposed facility would be constructed on an 11.8-acre parcel along the south side of the LIE, within State Row-of-Way, on which an existing parking area and recharge basin are presently located. The facility is needed to improve driver performance and safety, and to provide information to drivers about roadway conditions, overnight accommodations, and recreational attractions on Long Island. The facility, accessible only from the eastbound LIE, would have a traveler information center, rest rooms, parking for cars, trucks, buses and recreational vehicles, and related facilities. The existing 2-lane Carll's Straight Path bridge over the LIE at the western end of the project site would be replaced by a new 3-lane bridge. The proposed project site is in the Town of Huntington.

Alternatives under consideration include: (1) Taking no action; (2) replacing the existing seasonal parking area with a year-round travel and information center, and replacing the existing Carll's Straight Path bridge; and (3) replacing the existing seasonal parking area with a year-round travel and information center, and retaining the existing Carll's Straight Path bridge.

Letters describing the proposed action and soliciting comments will be sent to appropriate Federal, State, and local agencies, and to private organizations and citizens who have previously expressed interest in this proposal. The draft EIS will be available for public and agency review and comment. A formal NEPA scoping meeting will be held at the State Office Building Cafeteria at 250 Veterans Memorial Highway, in Hauppauge, New York. The scoping meeting will be held on June 25, 2001 from 4:30 P.M. to 8:00 P.M.

To ensure that the full range of issues related to this proposed action are addressed and all significant issues identified, comments and suggestions are invited from all interested parties. Comments and questions concerning this proposed action and the EIS should be directed to the NYSDOT or FHWA at the addresses provided above.

Authority: 23 U.S.C. 315; 23 CFR 771.123.

(Catalog of Federal Domestic Assistance Program Number 20.205, Highway Research, Planning and Construction. The regulations implementing Executive Order 12372 regarding intergovernmental consultation on Federal programs and activities apply to this program.)
Issued on: May 30, 2001.
Douglas P. Conlan,
District Engineer, Federal Highway Administration, Albany, New York.

[FR Doc. 01-14828 Filed 6-12-01; 8:45 am]

BILLING CODE 4910-22-M